DEPARTMENT OF LABOR

Employment and Training Administration

[TA-W-55,013]

Molex Inc, Rio Rico Warehouse, Rio Rico, AZ; Notice of Termination of Investigation

Pursuant to section 221 of the Trade Act of 1974, as amended, an investigation was initiated on June 2, 2004, in response to a petition filed by a company official on behalf of workers at Molex Inc, Rio Rico Warehouse, Rio Rico, Arizona.

The petitioner has requested that the petition be withdrawn. Consequently, the investigation has been terminated.

Signed in Washington, DC this 9th day of June, 2004.
Linda G. Poole,
Certifying Officer, Division of Trade Adjustment Assistance.

[FR Doc. 04-14912 Filed 6-30-04; 8:45 am]

BILLING CODE 4510-30-P